DEPARTMENT OF THE INTERIOR

Fish and Wildlife Service

Notice of Intent To Prepare a Comprehensive Conservation Plan and Associated Environmental Assessment for the Washington Coast National Wildlife Refuges (Refuges), Which Are Located in Clallam, Jefferson, and Grays Harbor Counties, WA

AGENCY: Fish and Wildlife Service, Interior.

ACTION: Notice of intent to prepare a comprehensive conservation plan and associated environmental assessment.

SUMMARY: This notice advises the public that the U.S. Fish and Wildlife Service (Service) intends to gather information necessary to prepare a Comprehensive Conservation Plan (CCP) and an associated environmental assessment for the Washington Coast National Wildlife Refuges (Refuges), which are composed of Flattery Rocks National Wildlife Refuge (NWR), Quillayute Needles NWR, and Copalis NWR, located in Clallam, Jefferson, and Grays Harbor Counties, Washington. The Service is furnishing this notice in compliance with Service CCP policy and the National Environmental Policy Act (NEPA) and implementing regulations to advise other agencies and the public of our intentions, and to obtain suggestions and information on the scope of issues to include in the environmental document.

DATES: Submit comments on issues to include on or before April 29, 2000.

ADDRESSES: Address comments and requests for more information, to be put on the mailing list, or for a copy of the most recent planning update to: Refuge Manager, Washington Maritime National Wildlife Refuge Complex, 33 S. Barr Road, Port Angeles, Washington, 98362, or call the Complex at (360) 457-8451. Submit faxes to (360) 457-9778. If you choose to submit comments via electronic mail, visit our Pacific Region Planning Website: http://www.r1.fws.gov/planning/plnhome.html. Please send these comments using the “Guest Mailbox” provided at that site.

FOR FURTHER INFORMATION CONTACT: Refuge Manager Kevin Ryan at the address and phone number above.

SUPPLEMENTARY INFORMATION: The Washington Coast NWRs (Flattery Rocks, Quillayute Needles, and Copalis NWRs), were established in 1907 by Theodore Roosevelt for the purpose of being “a preserve and breeding ground for native birds and animals” (Executive Orders 703, 704, and 705). These three Refuges extend over 100 miles along the outer coast of Washington State and include more than 600 rocks, reefs, and islands. Approximately 80% of the seabirds in the State nest within the Refuges. It was the original intent, with the establishment of the Refuges, to preserve these islands in a natural condition and to minimize human intrusion. As such, all islands are closed to public entry. Because of the physical characteristics of these islands, landings and access are extremely hazardous. On October 23, 1970, the Washington Islands Wilderness was established by Public Law 92-504. This placed all the islands, except for Destruction and James Islands, under wilderness designation.

It is Service policy to have all lands within the National Wildlife Refuge System managed in accordance with an approved Comprehensive Conservation Plan. This CCP will guide management decisions and identify Refuge goals, long-range objectives, and strategies for achieving Refuge purposes. Public input into this planning process is encouraged. The CCP will provide other agencies and the public with a clear understanding of the desired conditions for the Refuges and how the Service will implement management strategies over the next 15 years. Until the CCP is completed, Refuge management will continue to be guided by official Refuge purposes; Federal legislation regarding management of national wildlife refuges; and other legal, regulatory, and policy guidance.

Comments and concerns received will be used to develop goals, key issues and management strategies, and draft alternatives. Additional opportunities for public participation will occur throughout the CCP process, which is expected to be completed in early 2001. Interested federal, state, and local agencies, Tribes, organizations, and individuals will be contacted for input.

At this time, preliminary issues identified for the CCP include: how to handle wildlife disturbances caused by low-flying aircraft and by people trespassing during low tides or in water craft; the amount of research opportunities that the Refuges can support without adversely impacting biological resources; determining if invasive species are a problem, and if so, what would be the appropriate management response; determining what opportunities exist to cooperate with agencies responsible for pollution threats; and identifying off-site educational/interpretative opportunities in cooperation with the National Park Service, National Marine Sanctuary, state and local government, and Tribes. Because of their inaccessibility and the sensitivity of wildlife to disturbance, public uses of the Refuges' Islands are not a part of the long-term planning. A range of alternatives (and their effects on the biological resources and on the local communities) that address the issues and management strategies associated with these issues will be evaluated in the environmental assessment.

With the publication of this notice, the public is encouraged to send written comments on these and other issues, courses of action that the Service should consider, and potential impacts that could result from CCP implementation on Washington Coast National Wildlife Refuges.

All comments received from individuals become part of the official public record. Requests for such comments will be handled in accordance with the Freedom of Information Act, Council on Environmental Quality's NEPA Regulations 40 CFR 1506.6(f), and other Service and Department policy and procedures. When requested, the Service generally will provide comment letters with the names and addresses of the individuals who wrote the comments. However, the telephone number of the commenting individual will not be provided in response to such requests to the extent permissible by law. Additionally, public comment letters are not required to contain the author's name, address, or other identifying information. Such comments may be submitted anonymously to the Service.

The environmental review of this project will be conducted in accordance with the requirements of the National Environmental Policy Act of 1969, as amended (42 U.S.C. 4321 et seq.), NEPA Regulations (40 CFR 1500-1508), other appropriate Federal laws and regulations, Executive Order 12996, and Service policies and procedures for compliance with those regulations.

Dated: March 22, 2000.
Thomas Dwyer,
Acting Regional Director, Region 1, Portland, Oregon.

[FR Doc. 00-7608 Filed 3-27-00; 8:45 am]

BILLING CODE 4310-55-P